GENERAL SERVICES ADMINISTRATION

Federal Travel Regulation (FTR), Maximum Per Diem Rates for California, Colorado, Florida, Georgia, Idaho, Illinois, Kansas, Missouri, New Jersey, New York, Ohio, Pennsylvania, South Carolina, Tennessee, Texas, Virginia and Wisconsin

AGENCY: Office of Governmentwide Policy, General Services Administration (GSA).

ACTION: Notice of Per Diem Bulletin 06-03, revised continental United States (CONUS) per diem rates.

SUMMARY: The General Services Administration (GSA) has reviewed the lodging rates of certain locations in the States of California, Colorado, Florida, Georgia, Idaho, Kansas, Missouri, New Jersey, New York, Ohio, Pennsylvania, South Carolina, Tennessee, Texas, Virginia and Wisconsin and determined that they are inadequate. Also, GSA is changing the FY 2006 meals and incidental expenses rate in Illinois, city of Chicago, including Cook and Lake Counties, to provide for the reimbursement of Federal employees’ meals and incidental expenses covered by the per diem. The per diems prescribed in Bulletin 06-03 may be found at http://www.gsa.gov/perdiem.

DATES: This notice is effective November 10, 2005 and applies to travel performed on or after November 21, 2005.

FOR FURTHER INFORMATION CONTACT: For clarification of content, contact Patrick McConnell, Office of Governmentwide Policy, Travel Management Policy, at (202) 501-2362. Please cite FTR Per Diem Bulletin 06-03.

SUPPLEMENTARY INFORMATION:

A. Background

After an analysis of the per diem rates established for FY 2005 (see the Federal Register notices at 70 FR 52100, September 1, 2005, and 70 FR 59349, October 12, 2005), the per diem rate is being changed in the following locations:

State of California

• Butte County

State of Colorado

• El Paso County

• Summitt County

State of Florida

• Broward County

State of Georgia

• Glynn County

State of Idaho

• Twin Falls County

State of Illinois

• Cook and Lake Counties

State of Kansas

• Wyandotte and Johnson Counties

State of Missouri

• Jackson, Clay, Cass and Platte Counties

State of New Jersey

• Atlantic and Cape May Counties

State of New York

• Erie County

State of Ohio

• Franklin County

• Greene, Darke, and Montgomery Counties

State of Pennsylvania

• Dauphin County

• City of Hershey

State of South Carolina

• Charleston, Berkeley and Dorchester Counties

State of Tennessee

• Shelby County

State of Texas

• Bexar County

State of Virginia

• Albemarle County

State of Wisconsin

• Milwaukee County

B. Procedures

Per diem rates are published on the Internet at www.gsa.gov/perdiem as an FTR Per Diem Bulletin and published in the Federal Register on a periodic basis. This process ensures timely increases or decreases in per diem rates established by GSA for Federal employees on official travel within CONUS. Notices published periodically in the Federal Register, such as this one, now constitute the only notification of revisions in CONUS per diem rates to agencies.

Dated: November 3, 2005.
Becky Rhodes,
Deputy Associate Administrator, Office of Transportation and Personal Property.

[FR Doc. 05-22470 Filed 11-9-05; 8:45 am]

BILLING CODE 6820-14-S